DEPARTMENT OF LABOR

Office of the Secretary

Submission for OMB Review: Comment Request

October 26, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employee Benefits Security Administration (EBSA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: Furnishing Documents to the Secretary of Labor on Request under ERISA section104(a)(6).

OMB Number: 1210-0112.

Frequency: On occasion.

Type of Response: Reporting.

Affected Public: Business or other for-profit; Individuals or households; and Not-for-profit institutions.

Number of Respondents: 500.

Number of Annual Responses: 500.

Estimated Time Per Response: 5 minutes for timely paper submissions; 2 minutes for electronic submission; and 30 minutes for untimely submissions.

Total Burden Hours: 44.

Total Annualized capital/startup costs: $0.

Total Annual Costs (operating/maintaining systems or purchasing services): $1,800.

Description: The Taxpayer Relief Act of 1997 (TRA 97) eliminated the Employee Retirement Security Act of 1974 (ERISA) requirement that employee benefit plan administrators file with the Department copies of the summary plan descriptions and summaries of material modifications that are required to be furnished to plan participants and beneficiaries. TRA 97 added paragraph (6) to section 104(a) of ERISA which provides that the administrator of any employee benefit plan subject to Part 1 of Title I of ERISA is required to furnish to the Secretary of Labor, on request, any documents related to the employee benefit plan. Prior to the TRA 97 amendments, ERISA provided that certain documents be filed with the Department of Labor to ensure that plan participants and beneficiaries would have a means to obtain the documents without requesting them from the plan administrator. The new section 104(a)(6) authorizes the Department to request these documents on behalf of plan participants and beneficiaries.

Ira L. Mills,
Departmental Clearance Officer.

[FR Doc. 05-21842 Filed 11-1-05; 8:45 am]

BILLING CODE 4510-23-P